DEPARTMENT OF ENERGY

Federal Energy Regulatory Commission

[Project No. 15232-000]

Public Service Company of Colorado; Notice of Preliminary Permit Application Accepted for Filing and Soliciting Comments, Motions To Intervene, and Competing Applications

On August 23, 2021, Public Service Company of Colorado (PSCo), filed an application for a preliminary permit, pursuant to section 4(f) of the Federal Power Act (FPA), proposing to study the feasibility of the Unaweep Pumped Storage Hydropower Project (Unaweep Project or project), a closed-loop pumped storage project to be located in Mesa County, Colorado. The sole purpose of a preliminary permit, if issued, is to grant the permit holder priority to file a license application during the permit term. A preliminary permit does not authorize the permit holder to perform any land-disturbing activities or otherwise enter upon lands or waters owned by others without the owners' express permission.

The proposed project would consist of the following new facilities: (1) a 96-foot-high concrete-faced rockfill dam with approximate crest elevation of 8,627 feet (NAVD88) creating a 5,912 acre-foot upper reservoir with a maximum surface elevation of 8,622 feet (NAVD88); (2) an approximately 4,900-foot-long, 22-foot-diameter concrete- and steel-lined underground conduit system to connect the upper and lower reservoirs to the powerhouse; (3) an underground powerhouse containing three fixed-speed pump-turbine units with a generation capacity of 267 megawatts each (total capacity of 800 megawatts) that would be directly coupled to motor-generators rated at approximately 281 megawatts each; (4) a 73-foot-high earthen fill dam with approximate crest elevation of 7,075 feet (NAVD88), creating a 5,912 acre-foot lower reservoir with a maximum surface elevation of 7,068 feet (NAVD88); (5) a new water supply wellfield located adjacent to the Gunnison River near Whitewater, Colorado and a water transmission system containing a pump station and an approximately 19-mile-long pipeline; (6) a 24-mile-long 345-kilovolt (kV) single, double-circuit transmission line interconnecting the project to the applicant's existing Grand Junction substation which serves an existing 345-kV transmission line; and (7) appurtenant facilities. The estimated average annual generation of the Unaweep Project would be 2,780 gigawatt-hours.

Applicant Contact: Terri Eaton, Public Service Company of Colorado, 1800 Larimer Street, Suite 1200, Denver, Colorado 80202; phone: (303) 571-7112; terri.k.eaton@xcelenergy.com.

FERC Contact: Khatoon Melick, (202) 502-8433, khatoon.melick@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15232-000.

More information about this project, including a copy of the application, can be viewed or printed on the “eLibrary” link of Commission's website at https://www.ferc.gov/ferc-online/elibrary/overview. Enter the docket number (P-15232) in the docket number field to access the document. For assistance, contact FERC Online Support.

Dated: November 1, 2022.
Debbie-Anne A. Reese,
Deputy Secretary.

[FR Doc. 2022-24236 Filed 11-4-22; 8:45 am]

BILLING CODE 6717-01-P